FEDERAL COMMUNICATIONS COMMISSION

[GN Docket No. 17-208; FR ID 258641]

Meeting of the Communications Equity and Diversity Council

AGENCY: Federal Communications Commission.

ACTION: Notice.

SUMMARY: In accordance with the Federal Advisory Committee Act, this notice announces the third meeting of the Federal Communications Commission's (FCC or Commission) re-chartered Communications Equity and Diversity Council (CEDC). The charter for the CEDC was renewed for a two-year period beginning June 22, 2023.

DATES: Friday, December 6, 2024, from 10 a.m. to 2 p.m.

ADDRESSES: The CEDC meeting will be held in a hybrid manner. The public may attend the meeting in person at FCC headquarters at 45 L Street NE, Washington, DC. The meeting also will be available to the public for viewing via the internet at https://www.fcc.gov/live.

FOR FURTHER INFORMATION CONTACT: Rodney McDonald, Designated Federal Officer (DFO) of the CEDC, (202) 418-7513, Rodney.McDonald@fcc.gov; Diana Coho, Deputy DFO of the CEDC, (717) 338-2848, Diana.Coho@fcc.gov; Connor Ferraro, Deputy DFO of the CEDC, (202) 418-1322, Connor.Ferraro@fcc.gov; or Sima Nilsson, Deputy DFO of the CEDC, (202) 418-2708, Sima.Nilsson@fcc.gov. More information about the CEDC is available at https://www.fcc.gov/communications-equity-and-diversity-council.

SUPPLEMENTARY INFORMATION: The CEDC meeting is accessible to the public on the internet via live feed from the FCC's web page at https://www.fcc.gov/live. Open captioning will be provided for this event. Other reasonable accommodations for persons with disabilities are available upon request. Requests for such accommodations should be submitted via email to fcc504@fcc.gov or by calling the Consumer and Governmental Affairs Bureau at (202) 418-0530 (voice). Such requests should include a detailed description of the accommodation needed. In addition, please include a way for the Commission to contact the requester if more information is needed to fulfill the request. Please allow at least five days' advance notice for accommodation requests; last minute requests will be accepted but may not be possible to accommodate. Members of the public may submit any questions during the meeting to livequestions@fcc.gov. Oral statements at the meeting by parties or entities not represented on the CEDC will be permitted to the extent time permits and at the discretion of the CEDC Chair and the DFO. Members of the public also may submit comments to the CEDC using the FCC's Electronic Comment Filing System, ECFS, at www.fcc.gov/ecfs. Comments to the CEDC should be filed in GN Docket No. 17-208.

Proposed Agenda: The agenda for the meeting will include introducing a new Deputy DFO for the CEDC, introducing new CEDC working group co-chairs for the Innovation and Access Working Group, receiving updates from the working groups, and discussing working group plans going forward. The agenda may be modified at the discretion of the CEDC Chair and the DFO. It is anticipated that any significant agenda modifications will be posted in advance on the CEDC web page. The Council's continuing mission is to make recommendations to the Commission on advancing equity in the provision of and access to digital communication services and products for all people of the United States, without discrimination on the basis of race, color, religion, national origin, sex, or disability. It shall provide recommendations to the Commission on how to empower people of color and others who have been historically underserved, including persons who live in rural areas, and persons otherwise adversely affected by persistent poverty or inequality, to access, leverage, and benefit from the wide range of opportunities made possible by technology, communication services, and next-generation networks. The CEDC is organized under, and operates in accordance with, the provisions of the Federal Advisory Committee Act (5 U.S.C. app. 10).

Federal Communications Commission.
Jodie May,
Division Chief, Competition Policy Division, Wireline Competition Bureau.

[FR Doc. 2024-25496 Filed 10-31-24; 8:45 am]

BILLING CODE 6712-01-P